DEPARTMENT OF HEALTH AND HUMAN SERVICES

Public Health Service

42 CFR Part 84

Approval of Respiratory Protective Devices

CFR Correction

In Title 42 of the Code of Federal Regulations, Public Health, Parts 1 to 399, revised as of October 1, 2020, “Appendix A to Part 84—Annual (Fixed) Respirator Certification Fees”, and “Appendix B to Part 84—Application-Based Respirator Certification Fees”, published on pages 690 through 696, in Title 42 of the Code of Federal Regulations, Public Health, Parts 1 to 399, revised as of October 1, 2019, are reinstated.

[FR Doc. 2021-21061 Filed 9-24-21; 8:45 am]

BILLING CODE 0099-10-P